DEPARTMENT OF HEALTH AND HUMAN SERVICES

Centers for Disease Control and Prevention

[30 Day-11-11CC]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Development and Evaluation of Eagle Books and Youth Eagle Books for American Indians and Alaska Natives (AI/ANs)—New—National Center for Chronic Disease Prevention and Health Promotion (NCCDPHP), Centers for Disease Control and Prevention (CDC).

Background and Brief Description

The development of effective diabetes prevention programs targeting AI/AN youth is a compelling priority in education and public health. AI/AN individuals develop type 2 diabetes at younger ages, experience more years of disease burden and have a high probability of developing diabetes-related complications. However, research shows that type 2 diabetes can be prevented or delayed with healthy foods and nutrition, moderate physical activity, and social support. A number of health communication products have been developed specifically for AI/AN youth. These include the Eagle Books, the Youth Books, and the Diabetes Education in Tribal Schools (DETS) curriculum.

The Eagle Books are a series of four books that have been incorporated into the lesson plans for the Kindergarten (K) through fourth grades of the DETS curriculum. The materials are a result of a project that engaged eight Tribal Colleges and Universities, NIH, CDC, and IHS to develop culturally-grounded, scientifically sound lessons to promote awareness about diabetes and lifestyle adaptations. CDC is currently developing additional books for Native American youth ages nine to thirteen (the “Youth Books”).

CDC plans to conduct a descriptive evaluation of the Eagle Books and the DETS curriculum. Data collection will involve discussion groups and in-depth interviews conducted during site visits to 12 selected American Indian communities. Each site visit will consist of: (i) Interviews with up to 3 community health representatives; (ii) Interviews with up to 2 school administrators from a local elementary school and a middle school; (iii) One discussion (focus) group with teachers from a local elementary school and one discussion group with teachers from a local middle school; (iv) Two discussion (focus) groups with children: One group with younger children (grades K-1) and one group with older children (grades 2-4); (v) Two discussion (focus) groups with parents: one group with parents of younger children and one group with parents of older children; and (vi) Observational tours of the community.

During the site visits, respondents will be asked to provide general feedback about the Eagle Books and how the Eagle Books have affected knowledge, attitudes, and behaviors; how materials currently support or could be used to support other local diabetes prevention efforts; and how the planned Youth Books could support the DETS curriculum. De-identified information will be collected and analyzed by staff from CDC's Native Diabetes Wellness Program (NDWP), with the assistance of a data collection contractor.

Findings will be used to identify “best practices” with regard to implementation and use of the Eagle Books and DETS curriculum; to inform the development of similar materials; and to enhance current and future community outreach and technical assistance efforts aimed at preventing or controlling diabetes in AI/AN youth.

Information will be collected in an average of four communities per year over three years. Participation is voluntary and there are no costs to respondents other than their time. The total estimated annualized burden hours are 132.

Estimated Annualized Burden Hours
Type of respondent | Form name | Number of respondents | Number of responses per respondent | Average burden per response (in hours)
Community Health Representatives | Interview Guide for Community Health Representatives | 12 | 1 | 1
Administrators | Interview Guide for Administrators Grades K-4 | 4 | 1 | 1
| Interview Guide for Administrators Grades 5-8 | 4 | 1 | 1
Teachers | Discussion Guide for Teachers Grades K-4 | 16 | 1 | 75/60
| Discussion Guide for Teachers Grades 5-8 | 16 | 1 | 75/60
Parents | Discussion Guide for Parents Grades K-4 | 48 | 1 | 1
Children | Discussion Guide for Children Grades K-1 | 16 | 1 | 45/60
| Discussion Guide for Children Grades 2-3-4 | 16 | 1 | 45/60

Daniel Holcomb,
Reports Clearance Officer, Centers for Disease Control and Prevention.

[FR Doc. 2011-9280 Filed 4-15-11; 8:45 am]

BILLING CODE 4163-18-P